DEPARTMENT OF ENERGY

Federal Energy Regulatory Commission

[Project No. 2004-075]

Holyoke Gas & Electric Department; Notice of Settlement Agreement and Soliciting Comments

March 19, 2004.

Take notice that the following settlement agreement has been filed with the Commission and is available for public inspection.

a. Type of Application: Settlement agreement.

b. Project No.: 2004-075.

c. Date Filed: March 12, 2004.

d. Applicant: The City of Holyoke Gas & Electric Department.

e. Name of Project: Holyoke Hydroelectric Project.

f. Location: Located on the Connecticut River in Hampden, Hampshire, and Franklin Counties, Massachusetts. No Federal lands are occupied by the project works or located with the project boundary.

g. Filed Pursuant to: Rule 602 of the Commission's rules of practice and procedure, 18 CFR 385.602.

h. Applicant Contact: Mr. Paul S. Ducheney, Superintendent of Hydro Operations, City of Holyoke Gas & Electric Department, 99 Suffolk Street, Holyoke, MA 01040; (413) 536-9300.

i. FERC Contact: Allan Creamer at (202) 502-8365, or by e-mail at allan.creamer@ferc.gov.

j. Deadline for Filing Comments: The deadline for filing comments on the Settlement Agreement is 20 days from the date of this notice. The deadline for filing reply comments is 30 days from the date of this notice. All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper; see 18 CFR 385.2001(a)(1)(iii) and the instructions of the Commission's Web site (http://www.ferc.gov) under the “e-filing” link. After logging into the e-Filing system, select “Comment on Filing” from the Filing Type Selection screen and continue with the filing process. The Commission strongly encourages electronic filing.

k. The City of Holyoke Gas & Electric Department filed the Settlement Agreement on behalf of itself and 7 other stakeholders. The purpose of the Settlement Agreement is to resolve, among the settling parties, all issues presented in the pending requests for rehearing of the Federal Energy Regulatory Commission's August 20, 1999, “Order Issuing New License and Denying Competing Application,” for the Holyoke Project. The issues resolved through the settlement relate to run-of-river operations, bypass minimum flows and canal system flows, flow prioritization, and upstream and downstream fish passage. The settlement also addresses compliance issues with plans previously filed and approved by the Commission, pursuant to the 1999 license and the revised 2001 water quality certification. The City of Holyoke Gas & Electric Department and the settling parties request that the Commission, pending completion of formal consultation with NOAA Fisheries on the shortnose sturgeon, approve the Settlement Agreement and incorporate various proposed license articles into modified license articles for the project.

l. A copy of the Settlement Agreement is available for review at the Commission in the Public Reference Room or may be viewed on the Commission's Web site at http://www. ferc.gov, using the “eLibrary” link. Enter the docket number, excluding the last three digits in the docket number field (P-2004) to access the document. For assistance, contact FERC Online Support at FERCOnlineSupport@ferc.gov or toll-free at 1-866-208-3676, or for TTY, (202) 502-8659. A copy is also available for inspection and reproduction at the address in item h above.

You may also register online at http://www.ferc.gov/esubscribenow.htm to be notified via e-mail of new filings and issuances related to this or other pending projects. For assistance, contact FERC Online Support.

Magalie R. Salas,
Secretary.

[FR Doc. E4-666 Filed 3-24-04; 8:45 am]

BILLING CODE 6717-01-P